NUCLEAR REGULATORY COMMISSION

Draft Report for Comment: Office of Nuclear Material Safety and Safeguards Consolidated Decommissioning Guidance: Updates To Implement the License Termination Rule Analysis

AGENCY: Nuclear Regulatory Commission.

ACTION: Notice of availability and request for comments.

SUMMARY: The U.S. Nuclear Regulatory Commission's (NRC) Office of Nuclear Material Safety and Safeguards (NMSS) has issued NUREG-1757, Supplement 1, “Consolidated NMSS Decommissioning Guidance: Updates to Implement the License Termination Rule Analysis, Draft Report for Comment” for public comment.

DATES: Comments on this draft document should be submitted by December 30, 2005. Comments received after that date will be considered, if it is practical to do so.

ADDRESSES: NUREG-1757, Supplement 1, is available for inspection and copying for a fee at the Commission's Public Document Room, NRC's Headquarters Building, 11555 Rockville Pike (First Floor), Rockville, Maryland. The Public Document Room is open from 7:45 a.m. to 4:15 p.m., Monday through Friday, except on Federal holidays. NUREG-1757 is also available electronically on the NRC Web site at: http://www.nrc.gov/reading-rm/doc-collections/nuregs/staff/sr1757/s1/, and from the ADAMS Electronic Reading Room on the NRC Web site at: http://www.nrc.gov/reading-rm/adams.html.

Members of the public are invited and encouraged to submit written comments. Comments may be accompanied by additional relevant information or supporting data. A number of methods may be used to submit comments. Written comments should be mailed to Chief, Rules Review and Directives Branch, U.S. Nuclear Regulatory Commission, Mail Stop T6-D59, Washington, DC 20555-0001. Hand-deliver comments to: 11555 Rockville Pike, Rockville, MD, between 7:30 a.m. and 4:15 p.m., Federal workdays. Comments may be submitted electronically to the NRC staff by the Internet at: decomcomments@nrc.gov. Comments also may be submitted electronically through the comment form available on the NRC Web site at: http://www.nrc.gov/reading-rm/doc-collections/nuregs/staff/sr1757/s1/.

Please specify the report number NUREG-1757, Supplement 1, draft, in your comments, and send your comments by December 30, 2005.

FOR FURTHER INFORMATION, CONTACT: Duane W. Schmidt, Mail Stop T-7E18, U.S. Nuclear Regulatory Commission, Washington, DC 20555-0001. Telephone: (301) 415-6919; Internet: dws2@nrc.gov.

SUPPLEMENTARY INFORMATION: In September 2003, the NRC published a three-volume NUREG report, NUREG-1757, “Consolidated NMSS Decommissioning Guidance.” That report provides guidance on: planning and implementing license termination under the License Termination Rule, in 10 CFR part 20, subpart E; complying with the radiological criteria for license termination; and complying with the requirements for financial assurance and recordkeeping for decommissioning and timeliness in decommissioning materials facilities. The draft Supplement 1, “Consolidated NMSS Decommissioning Guidance: Updates to Implement the License Termination Rule Analysis” (NUREG-1757, Supplement 1), is the first of periodic updates to reflect current NRC decommissioning policy.

Draft Supplement 1 provides proposed additions and updates to guidance addressing the following issues, which were explored in an NRC staff analysis of the implementation of the License Termination Rule: restricted use and institutional controls; on-site disposal of radioactive materials; scenario justification based on reasonably foreseeable land use; intentional mixing of contaminated soil; and removal of material after license termination. It also provides new and revised guidance to address several other issues. NRC is seeking public comment in order to receive feedback from the widest range of interested parties and to ensure that all information relevant to developing the document is available to the NRC staff. The NRC will review public comments received on the draft document. Suggested changes will be incorporated, where appropriate, and a final document will be issued for use. When finalized, the guidance is intended for use by NRC staff, licensees, and the public.

Draft Supplement 1 is issued for comment only and is not intended for interim use.

Dated at Rockville, MD, this 23rd day of September, 2005.
For the Nuclear Regulatory Commission.
Andrew Persinko,
Acting Deputy Director, Decommissioning Directorate, Division of Waste Management and Environmental Protection, Office of Nuclear Material Safety and Safeguards.

[FR Doc. 05-19447 Filed 9-28-05; 8:45 am]

BILLING CODE 7590-01-P